DEPARTMENT OF HOMELAND SECURITY

Office of the Secretary

[Docket No. DHS-2008-0136]

Privacy Act of 1974; Department of Homeland Security General Training Records System of Records

AGENCY: Privacy Office, DHS.

ACTION: Notice of Privacy Act system of records.

SUMMARY: In accordance with the Privacy Act of 1974, the Department of Homeland Security is giving notice that it proposes to update one record system titled, DHS/ALL-003 Department of Homeland Security General Training Records. Categories of individuals, categories of records, routine uses, and exemptions of this system of records notice have been updated to better reflect the Department's updated general training record systems. Additionally, the Department will be issuing a Final Rule on the exemptions elsewhere in the Federal Register concurrent with the publishing of this updated System of Records Notice. This updated system will be included in the Department of Homeland Security's inventory of record systems.

DATES: Comments must be received on or before December 26, 2008.

ADDRESSES: You may submit comments, identified by docket number DHS-2008-0136 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personally identifiable information provided.

• Docket: For access to the docket to read background documents or comments received, go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

The Department of Homeland Security (DHS) is updating and reissuing an agency-wide system of records under the Privacy Act (5 U.S.C. 552a) for DHS general training records. This system collects and maintains training records on current and former Departmental employees, contractors, and other individuals.

In accordance with the Privacy Act of 1974, DHS is giving notice that it proposes to update one record system titled, DHS/ALL-003 Department of Homeland Security General Training Records (71 FR 26767 May 8, 2006). Categories of individuals have been updated to include volunteers and contractors; other participants in training programs, including instructors, course developers, observers, and interpreters; categories of records have been updated to include more extensive records for processing and tracking training activities; routine uses have been updated to allow for the sharing of information for an audit of the Department or it's components; to share with the supervisor of those individuals seeking training as it relates to the individual's fitness and qualifications for training and to provide training status; and to allow for sharing in the event the Department has a possible loss of personally identifiable information. Additionally, the Department will be issuing a Final Rule on the exemptions elsewhere in the Federal Register concurrent with the publishing of this updated System of Records Notice. This updated system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the DHS Mailing and Other Lists System of Records.

In accordance with 5 U.S.C. 552a(r), DHS has provided a report of this updated system of records to the Office of Management and Budget and to Congress.

SYSTEM OF RECORDS

DHS/All-003.

System Name:

Department of Homeland Security General Training Records.

Security Classification:

Unclassified.

System Location:

Records are maintained at several Headquarters locations and in component offices of the Department of Homeland Security, in both Washington, DC and field locations.

Authority for Maintenance of the System:

The Homeland Security Act of 2002, Pub. L. 107-296, 6 U.S.C. 121; Federal Records Act, 44 U.S.C. 3101; 6 CFR Part 5; 5 U.S.C. app. 3; 5 U.S.C. 301 and Ch. 41; Executive Order 11348, as amended by Executive Order 12107; and Executive Order 9397 (SSN).

Categories of Individuals Covered by the System:

Current and former employees of DHS, volunteers and contractors; any individual who is or has been an employee of DHS and who has applied for, participated in or assisted with a training program; any other Federal employee or private individual, including contractors and others, who has participated in or assisted with training programs recommended, sponsored or operated by the Department of Homeland Security; and other participants in training programs, including instructors, course developers, observers, and interpreters.

Categories of Records in the System:

The system includes all records pertaining to training, including:

• Individual's name;

• Date of birth;

• Social security number;

• Address;

• Phone numbers;

• Email addresses;

• Occupation;

• Nomination forms;

• Registration forms;

• Course rosters and sign-in sheets;

• Instructor lists;

• Schedules;

• Payment records, including financial, travel and related expenditures;

• Examination and testing materials;

• Grades and student evaluations;

• Course and instructor critiques;

• Equipment issued to trainees and other training participants; and other reports pertaining to training; and

• Individuals who apply for but are not accepted for training.

Purpose:

This record system will collect and document training given to DHS employees, contractors, and others who are provided DHS training. This system will provide DHS with a means to track the particular training that is provided, identify training trends and needs, monitor and track the expenditure of training and related travel funds, schedule training classes and programs, schedule instructors, track training items issued to students, assess the effectiveness of training, identify patterns, respond to requests for information related to the training of DHS personnel and other individuals, and facilitate the compilation of statistical information about training.

Routine uses of records maintained in the system, including categories of users and the purposes of such uses:

In addition to those disclosures generally permitted under 5 U.S.C. 552a(b) of the Privacy Act, all or a portion of the records of information contained in this system may be disclosed outside Department of Homeland Security (DHS) as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To a Federal, State, tribal, local or foreign government agency or professional licensing authority in response to its request, in connection with the hiring or retention of an employee, the issuance of a security clearance, the reporting of an investigation of an employee, the letting of a contract, or the issuance or status of a license, grant, or other benefit by the requesting entity, to the extent that the information is relevant and necessary to the requesting entity's decision on the matter.

I. To educational institutions or training facilities for purposes of enrollment and verification of employee attendance and performance.

J. To the Equal Employment Opportunity Commission, Merit Systems Protection Board, Office of the Special Counsel, Federal Labor Relations Authority, or Office of Personnel Management or to arbitrators and other parties responsible for processing any personnel actions or conducting administrative hearings or appeals, or if needed in the performance of authorized duties.

K. To the Department of Justice or a consumer reporting agency for further action on a delinquent debt when circumstances warrant.

L. To employers to the extent necessary to obtain information pertinent to the individual's fitness and qualifications for training and to provide training status.

M. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

Yes.

Policies and Practices for Storing, Retrieving, Accessing, Retaining, and Disposing of Records in the System:

Storage:

Records in this system are stored electronically or on paper in secure facilities in a locked drawer behind a locked door. The records are stored on magnetic disc, tape, digital media, and CD-ROM.

Retrievability:

Data may be retrieved by the individual's name, social security number, or other personal identifier.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and Disposal:

Records are maintained and disposed in accordance with National Archives and Records Administration General Records Schedule, No. 1.

System Manager(s) and Address:

For Headquarters components of the Department of Homeland Security, the System Manager is the Director of Departmental Disclosure, Department of Homeland Security, Washington, DC 20528. For components of the Department of Homeland Security, the System Manager can be found at http://www.dhs.gov/foia under “contacts.”

Notification Procedure:

Individuals seeking notification of and access to any record contained in this system of records, or seeking to contest its content, may submit a request in writing to the component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) will not be able to conduct an effective search, and your request may be denied due to lack of specificity or lack of compliance with applicable regulations.

Record Access Procedure:

See “Notification Procedure” above.

Contesting Record Procedures:

See “Notification Procedure” above.

Record source categories:

Information originates within DHS and from the individual to whom the record pertains.

Exemptions Claimed for the System:

The Secretary of Homeland Security has exempted certain records in this system on the basis of 5 U.S.C. 552a(k)(6) in order to preserve the objectivity and fairness of testing and examination material.

Dated: November 18, 2008.
Hugo Teufel III,
Chief Privacy Officer, Department of Homeland Security.

[FR Doc. E8-28037 Filed 11-24-08; 8:45 am]

BILLING CODE 4410-10-P